DEPARTMENT OF ENERGY

Federal Energy Regulatory Commission

[Docket No. RP02-39-002]

Columbia Gulf Transmission Company; Notice of Compliance Filing

January 3, 2002.

Take notice that on December 28, 2001, Columbia Gulf Transmission Company (Columbia Gulf) tendered for filing as part of its FERC Gas Tariff, Second Revised Volume No. 1, the following tariff sheets to be effective December 1, 2001:

Substitute Sixth Revised Sheet No. 19A

First Revised Sheet No. 83

Substitute Original Sheet No. 87

Original Sheet No. 88

Original Sheet No. 89

Second Revised Sheet No. 331

Original Sheet No. 334

Columbia Gulf states that it is filing the tariff sheets to comply with the Commission's November 30, 2001 order accepting its Rate Schedule PAL effective December 1, 2001.

Columbia Gulf states further that it has served copies of the filing on all parties identified on the official service list in Docket No. RP02-39-000. Copies also have been mailed by first class mail to all firm customers, interruptible customers, and affected state commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 02-466 Filed 1-8-02; 8:45 am]

BILLING CODE 6717-01-P